INTERNATIONAL TRADE COMMISSION

[Investigation No. 337-TA-1451]

Certain Ink Cartridges and Components Thereof I; Notice of Institution of Investigation

AGENCY: U.S. International Trade Commission.

ACTION: Notice.

SUMMARY: Notice is hereby given that a complaint was filed with the U.S. International Trade Commission on May 13, 2025, under section 337 of the Tariff Act of 1930, as amended, on behalf of Epson Portland Inc. of Hillsboro, Oregon; Epson America, Inc. of Los Alamitos, California; and Seiko Epson Corporation of Japan. Supplements to the complaint were filed on May 19 and 30, 2025, and June 3, 2025. The complaint, as supplemented, alleges violations of section 337 based upon the importation into the United States, the sale for importation, and the sale within the United States after importation of certain ink cartridges and components thereof by reason of the infringement of certain claims of U.S. Patent No. 8,540,347 (“the '347 patent”); U.S. Patent No. 9,061,508 (“the '508 patent”); U.S. Patent No. 11,535,037 (“the '037 patent”); U.S. Patent No. 11,820,150 (“the '150 patent”); and U.S. Patent No. 12,246,539 (“the '539 patent”). The complaint, as supplemented, further alleges that an industry in the United States exists as required by the applicable Federal Statute. The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on June 12, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 4, 8, 11, 14, 16-17, 20, and 23 of the '347 patent; claims 1, 3, 7, 9, 12, 14, 17, and 19 of the '508 patent; claims 1 and 9-10 of the '037 patent; claims 1, 9-11, and 19-20 of the '150 patent; and claims 1-2, 9-11, 18-20, and 27 of the '539 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “ink jet cartridge products and components thereof for use in Epson ink jet printers”;

(3) For the purpose of the investigation so instituted, the following are hereby named as parties upon which this notice of investigation shall be served:

(a) The complainants are:

Epson Portland Inc., 3950 NE Aloclek Drive, Hillsboro, Oregon 97124

Epson America, Inc., 3131 Katella Avenue, Los Alamitos, CA 90720

Seiko Epson Corporation, 3-3-5 Owa, Suwa, Nagano 392-8502, Japan

(b) The respondents are the following entities alleged to be in violation of section 337, and are the parties upon which the complaint is to be served:

Dongguan Ocbestjet Digital Technology Co., Ltd., d/b/a Ocbestjet, B-3-302, Guancheng Electronic Information Industrial Park, No. 689 Jian'an Road, Shatou Community, Chang'an Town, Dongguan City, Guangdong, China 523850

Ocbestjet Printer Consumables (HK) Co., Ltd., d/b/a Ocbestjet, RM 2301, 23 F/L, Worldwide House, 19 Des Voeux Road Central, Hong Kong 999077

Tatrix International China Co., Ltd., 7th/F, Nanyufeng Bldg. 3, No. 6 Pingbei 1st Rd., Nanping Science Industrial Park, Xiangzhou, Zhuhai, Guangdong, China 519060

Luozhi Trading Co., Ltd., Room 101, 1F No. 13 Xiang, Wusi Zhong, Guanzhou, Guangdong, China, 510800

Shenzhen Hongxinyuan E-Commerce Co., Ltd., d/b/a Jianjai, d/b/a Vi-US, Chinese New Vil, Minzhi St., Longhua District, 301C1, Tianfuxing Building, Zhangkeng Voerseas, Shenzhen, Guangdong, China 518000

Shenzhen Kaizhen Technology Co., Ltd., d/b/a PayForLess, Rm. 302, Unit B, Bldg. 1, Haoya Garden, Fuqian Rd., Guanlan St., Longhua District, Shenzhen, Guangdong, China 518000

Zhuhai Zhenyang Electronics Co., Ltd., d/b/a Oinkwere, Room 210, Unit 2, Building 2, No. 63 Xianghua Road, Xiangzhou District, Zhuhai, Guangdong, China 519001

Shangrao Shixuan E-Commerce Co., Ltd., d/b/a Inkgo, 1-909, No. 32, Gandongbei Avenue, Xinzhou District, Shangrao, Jiangxi, China 334000

Zhuhai Hengyunda Electronics Co., Ltd., d/b/a Upriin, Hengqin, Room 804, Building 2, No. 88 Fumin Road, Zhuhai, Guangdong, China 519000

Zhuhai Rongtaida Electronics Co., Ltd., d/b/a Hookink, No. 1, 9E, Taihe Business Center, No. 338 Ningxi, Xiangzhou District, Zhuhai, Guangdong, China 519000

Zhuhai Shi Wei Tai Electronics Co., Ltd., d/b/a Ondula-A, Room 527-1, 5th Floor, No. 5 Jingyuan Road, Jida, Zhuhai, Guangdong, China 519000

Zhuhai Yixing Electronics Co., Ltd., d/b/a Greenjob USSOP, Room 9F-2, Taihe Commercial Center, No. 338 Ningxi Rd., Xiangzhou District, Zhuhai, Guangdong, China 519000

Mei Jin Technology HK Co., Ltd., d/b/a YBFeir, d/b/a MJing, Flat/Rm 1201, 12/F Tai Sang Bank Building, 130-132 Des Voeux Road, Central and Western District, Hong Kong 999077

ZhuHai MeiJiAn Trading Co., Ltd., d/b/a HaloFox, Room 105-24777, No. 6 Baohua Road, Hengqin New District, ZhuHai, Guangdong, China 519000

Qiong Wang, d/b/a 7-magic, 017 Minzhong Road, Yangjia Town, Leizhou City, Guangdong, China 524200

Shen Zhen Sailing Technology Limited, d/b/a Triple-Color, Bairuida Dasha 807, Shenzhen Shi Longgang, Qu Bantian Jiedao 807, Shenzhen, China 518111

Zhuhai Shuofeng E-commerce Co., Ltd., d/b/a super-ink-club, Room 1202, Unit 1, Building 6, No. 28 Beishan Road, Xiangzhou District, Zhuhai, Guangdong, China 519000

Zhuhai Bowang Technology Co., Ltd., d/b/a office-print-club, Rm. 1601 and 1602, 16/F, Building 2, Meixi Commercial Plaza, No. 168 Tourism Rd., Xiangzhou District, Zhuhai, Guangdong, China 519075

Mountain Peak, Inc., d/b/a/Billiontree Technology USA, Inc., d/b/a TonerKingdom, 19945 Harrison Avenue, City of Industry, California 91789

Straightouttaink, LP, d/b/a discountinkllc, d/b/a einkshop2014, d/b/a Inkpro, d/b/a inkprousa, 541 W Capitol Expressway 10-212, San Jose, California 95136

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 12, 2025.
Lisa Barton,
Secretary to the Commission.

[FR Doc. 2025-11086 Filed 6-16-25; 8:45 am]

BILLING CODE 7020-02-P